DEPARTMENT OF ENERGY

Federal Energy Regulatory Commission

Combined Notice of Filings #2

Take notice that the Commission received the following electric corporate filings:

Docket Numbers: EC13-123-000.

Applicants: Midland Cogeneration Venture Limited Partnership.

Description: Application for Authorization Under Section 203 and Request for Waivers, Confidential Treatment, Expedited Action and Shortened Comment Period of Midland Cogeneration Venture Limited Partnership under EC13-123.

Filed Date: 7/2/13.

Accession Number: 20130702-5115.

Comments Due: 5 p.m. ET 7/23/13.

Take notice that the Commission received the following electric rate filings:

Docket Numbers: ER10-1777-005; ER10-2983-004; ER10-2980-004.

Applicants: Sundevil Power Holdings, LLC, Castleton Energy Services, LLC, Castleton Power, LLC.

Description: Updated Market Power Analysis for the Southwest Region of the Wayzata Entities, et al.

Filed Date: 7/1/13.

Accession Number: 20130701-5391.

Comments Due: 5 p.m. ET 8/30/13.

Docket Numbers: ER10-1847-003; ER10-1856-003; ER10-1890-003; ER11-2160-003; ER10-1906-003; ER11-3635-004; ER10-1962-003; ER11-4677-004; ER12-2444-003; ER12-676-004; ER11-2192-005; ER10-1989-003; ER11-4678-004; ER10-1992-003; ER12-631-004; ER10-1971-011.

Applicants: Diablo Winds, LLC, FPL Energy Cabazon Wind, LLC, FPL Energy Green Power Wind, LLC, FPL Energy Montezuma Wind, LLC, FPL Energy New Mexico Wind, LLC, Hatch Solar Energy Center I, LLC, High Winds, LLC, NextEra Energy Montezuma II Wind, LLC, North Sky River Energy, LLC, Perrin Ranch Wind, LLC Sky River LLC, Vasco Winds, LLC, Victory Garden Phase IV, LLC Windpower Partners 1993, LLC, NextEra Energy Power Marketing, LLC.

Description: Triennial Market Power Update for the Southwest Region of NextEra Companies.

Filed Date: 7/1/13.

Accession Number: 20130701-5392.

Comments Due: 5 p.m. ET 8/30/13.

Docket Numbers: ER10-1942-008; ER10-2042-011; ER10-1941-004; ER11-3840-002; ER10-1938-006; ER10-1937-004; ER13-1407-001; ER10-1898-005; ER10-1934-005; ER10-1893-005; ER10-1888-004; ER10-1885-004; ER10-1884-004; ER10-1883-004; ER10-1878-004; ER10-1876-004; ER10-1875-004; ER10-1873-004; ER12-1987-002; ER10-1947-004; ER10-1864-004; ER10-1867-004; ER10-1862-005; ER12-2261-002; ER10-1865-004.

Applicants: Calpine Construction Finance Company, LP, Calpine Energy Services, L.P., Calpine Gilroy Cogen, L.P., Calpine Greenleaf, Inc, Calpine Power America—CA, LLC, Calpine Power America—OR, LLC, CCFC Sutter Energy, LLC, CES Marketing V, L.P., CES Marketing X, LLC, CES Marketing IX, LLC, Creed Energy Center, LLC, Goose Haven Energy Center, LLC, Gilroy Energy Center, LLC, Los Medanos Energy Center, LLC, Metcalf Energy Center, LLC, Geysers Power Company LLC, Otay Mesa Energy Center, LLC, Pastoria Energy Center, LLC, PCF2, LLC, Delta Energy Center, LLC, O.L.S. Energy-Agnews, Inc., South Point Energy Center, LLC, Los Esteros Critical Energy Facility LLC, Power Contract Finance, LLC, Russell City Energy Company, LL.

Description: Updated Market Power Analysis for the Southwest Region of the Calpine Corporation subsidiaries.

Filed Date: 7/1/13.

Accession Number: 20130701-5395.

Comments Due: 5 p.m. ET 8/30/13.

Docket Numbers: ER10-3145-004; ER10-3147-004; ER13-442-001; ER10-3116-004; ER10-3120-004; ER11-2036-004; ER13-1544-001; ER10-3128-004; ER11-3131-001; ER13-1139-003; ER10-1800-004; ER10-3136-004; ER11-2701-006; ER10-1728-004; ER10-2491-004; ER97-2904-012; ER97-4222-003.

Applicants: AES Alamitos, LLC, AES Armenia Mountain Wind, LLC, AES Beaver Valley, LLC, AES Energy Storage, LLC, AES Huntington Beach, L.L.C., AES Laurel Mountain LLC, AES ES Tait, LLC, AES Redondo Beach, L.L.C., Condon Wind Power, LLC, Imperial Valley Solar 1, LLC, Indianapolis Power & Light Company, Mountain View Power Partners, LLC, The Dayton Power and Light Company, DPL Energy, LLC, Lake Benton Power Partners LLC, Storm Lake Power Partners II, LLC, Mountain View Power Partners IV, LLC.

Description: Triennial Market Power Update for the Southwest Region and Notice of Change in Status of AES MBR Affiliates.

Filed Date: 7/1/13.

Accession Number: 20130701-5393.

Comments Due: 5 p.m. ET 8/30/13.

Docket Numbers: ER13-1883-000.

Applicants: MP2 Energy NJ LLC.

Description: Compliance Filing to be effective 7/2/2013.

Filed Date: 7/2/13.

Accession Number: 20130702-5000.

Comments Due: 5 p.m. ET 7/23/13.

Docket Numbers: ER13-1884-000.

Applicants: MP2 Energy NE LLC.

Description: Compliance Filing to be effective 7/3/2013.

Filed Date: 7/2/13.

Accession Number: 20130702-5066.

Comments Due: 5 p.m. ET 7/23/13.

Docket Numbers: ER13-1885-000.

Applicants: Malacha Hydro Limited Partnership.

Description: Malacha Hydro Limited Partnership submits tariff filing per 35.12: First Revised Electric Rate Schedule No. 1 to be effective 7/3/2013.

Filed Date: 7/2/13.

Accession Number: 20130702-5120.

Comments Due: 5 p.m. ET 7/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2013.
Nathaniel J. Davis, Sr.,
Deputy Secretary.

[FR Doc. 2013-16626 Filed 7-10-13; 8:45 am]

BILLING CODE 6717-01-P